DEPARTMENT OF ENERGY

Federal Energy Regulatory Commission

[Project No. 6028-008]

The Bank of New York Mellon Trust Co., N.A. (Owner Trustee) EIF Haypress, Inc.; Notice of Transfer of Exemption

1. By letter filed July 5, 2013, The Bank of New York Mellon Trust Co., N.A. (Owner Trustee) and EIF Haypress, Inc. informed the Commission that the exemption from licensing for the Lower Haypress Creek Hydroelectric Project, FERC No. 6028, originally issued August 6, 1982,¹ has been transferred to EIF Haypress, Inc. The project is located on the Haypress Creek in Sierra County, California. The transfer of an exemption does not require Commission approval.

¹ 20 FERC ¶ 62,225, Order Granting Exemption from Licensing of a Small Hydroelectric Project of 5 MW or Less and Denying Competing Applications for Preliminary Permit.

2. EIF Haypress, LLC, c/o Northbrook Hydro, LLC, 14550 N Frank Lloyd Wright Blvd., Suite 210, Scottsdale, AZ 85260, is now the exemptee of the Lower Haypress Creek Hydroelectric Project, FERC No. 6028.

Dated: July 16, 2013.
Kimberly D. Bose,
Secretary.

[FR Doc. 2013-17584 Filed 7-22-13; 8:45 am]

BILLING CODE 6717-01-P